DEPARTMENT OF AGRICULTURE

Forest Service

DEPARTMENT OF THE INTERIOR

Bureau of Land Management

[CO-140-1610-DS]

Notice of Availability of a Draft Environmental Impact Statement for the Rock Creek Integrated Management Project

AGENCY: Forest Service, USDA, and Bureau of Land Management, USDI.

ACTION: Notice of availability.

SUMMARY: In accordance with the National Environmental Policy Act (NEPA) of 1969, National Forest Management Act of 1976, and Federal Land Policy and Management Act (FLPMA) of 1976, a Draft Environmental Impact Statement (EIS) has been prepared for the Rock Creek Integrated Management Project and is available for a 60-day public review and comment period. The planning area lies in Routt County, Colorado. This project is an “authorized project” under Title I of the Healthy Forest Restoration Act (HFRA).

DATES: Written comments on the Draft EIS will be accepted for 60 days following the date EPA publishes their NOA in the FR. Future public meetings and any other public involvement activities will be announced at least 15 days in advance through public notices, local media releases in Steamboat Springs, Glenwood Springs, and the project Web site at http://www.fs.fed.us/r2/mbr/project under Environmental Analysis and Forest Health.

When submitting comments please include your full name and address. Submit comments in Microsoft Word 2000 file format or as an ASCII file, avoiding the use of special characters and any form of encryption.

ADDRESSES: You may submit comments by any of the following methods:

Web site: http://www.fs.fed.us/r2/mbr/projects under Environmental Analysis and Forest Health. Follow the instructions for submitting comments on the Web site.

E-mail: comments-rocky-mountain-medicine-bow-routt-yampa@fs.fed.us. Include “Rock Creek” in the subject line of the e-mail message.

Fax: (970) 870-2284.

Mail or Hand Delivery: Joanne Sanfilippo, Environmental Coordinator, Medicine Bow-Routt National Forests, 925 Weiss Drive, Steamboat Springs, Colorado 80487.

Written comments, including names and addresses of recipients, will be available for public review at the Medicine Bow-Routt National Forest Office, 925 Weiss Drive, Steamboat Springs, Colorado 80487, during normal working hours (8 a.m. to 4:30 p.m., except holidays).

FOR FURTHER INFORMATION CONTACT: Joanne Sanfilippo (970-870-2210) or Andy Cadenhead (970-870-2220), Medicine Bow-Routt National Forests, 925 Weiss Drive, Steamboat Springs, Colorado 80487 or Karl Mendonca (970-947-2811), Bureau of Land Management, Glenwood Springs Field Office, 50629 Highway 6 & 24, Glenwood Springs, Colorado 81602.

SUPPLEMENTARY INFORMATION: Between 2002 and 2003, Mountain Pine Beetle (MPB) activity in the drought-stressed Gore Pass Geographic Area increased 20-fold. A multidisciplinary, focused assessment was completed that identified the probability of a large-scale, high intensity beetle epidemic and fires that will threaten hydrologic flows, timber, wildlife habitats, developed recreation sites, administrative sites, the transportation system, heritage sites, off-site urban development, and other values. The interdisciplinary team identified potential management actions using prevention, suppression, and salvage strategies to reduce the beetle infestations and minimize adverse effects to resources.

Insect epidemics are one of the natural processes in forested landscapes. Some uses of the forest are compromised by tree mortality resulting from insect attacks. Recreation, wood product production, scenery, wildlife habitats and water resources are all adversely affected by large scale insect epidemics and the subsequent increased risk of these areas to large high intensity wildfires.

The purpose of the Proposed Action is to reduce the size and intensity of an existing and imminent mountain pine beetle epidemic, and to reduce the future risk of large-scale high intensity wildfires within the Rock Creek Analysis Area.

The Medicine Bow-Routt National Forests is the lead agency. The Glenwood Springs Field Office of the Bureau of Land Management is the joint lead agency for the Rock Creek Integrated Management Project.

To assist the Forest Service and the Bureau of Land Management in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Healthy Forests Restoration Act Predecisional Review (Objection) Process HFRA [Section 105(a)] replaces the USDA Forest Service's and Bureau of Land Management's administrative appeals process with an objection process that occurs before the decision approving authorized fuel-reduction projects under the act. Participation in the predecisional review process is limited to individuals and organizations who have submitted specific written comments related to the proposed authorized hazardous fuel reduction project during the opportunity for public comment provided when an environmental (EA) or EIS is being prepared for the project [Section 105(a)(3), 36 CFR 218.6].

Written objections, including any attachments, must be filed with the reviewing officer within 30 days after the publication date of the legal notice of the EA or final EIS in the newspaper of record [Section 218.4(b)]. It is the responsibility of the objectors to ensure that their objection is received in a timely manner.

Dated: April 8, 2005.
Oscar P. Martinez,
District Ranger, Yampa Ranger District, Medicine Bow-Routt National Forests, USDA Forest Service.
Dated: April 8, 2005.
Jamie Connell,
Area Manager, Glenwood Springs Field Office, USDI Bureau of Land Management.

[FR Doc. 05-11088 Filed 6-2-05; 8:45 am]

BILLING CODE 4310-JB-P